DEPARTMENT OF COMMERCE

International Trade Administration

University of North Dakota; Notice of Decision on Application for Duty-Free Entry of Scientific Instrument

Correction

In notice document 00-9996 appearing on page 21397 in the issue of Friday, April 21, 2000, make the following correction:

On page 21397, in the first column, in the third paragraph. in the eleventh line, “10-11” should read “10⁻¹¹ ”.

[FR Doc. C0-9996 Filed 5-3-00; 8:45 am]

BILLING CODE 1505-01-D

COMMODITY FUTURES TRADING COMMISSION

17 CFR Part 4

RIN 3038-AB34

Commodity Pool Operators; Exclusion for Certain Otherwise Regulated Persons From the Definition of the Term “Commodity Pool Operator”

Correction

In rule document 00-10087 beginning on page 24127, in the issue of Tuesday, April 25, 2000, make the following correction:

§ 4.5 [Corrected]

On page 24128, in the third column § 4.5 (a)(4), in the third line, after “shall” add “not”.

[FR Doc. C0-10087 Filed 5-3-00; 8:45 am]

BILLING CODE 1505-01-D

DEPARTMENT OF TRANSPORTATION

Coast Guard

33 CFR Part 165

[CGD01-00-015]

RIN 2115-AA97

Safety Zone: Staten Island Fireworks, Arthur Kill

Correction

In proposed rule document 00-10153 beginning on page 21686, in the issue of Monday, April 24, 2000, make the following correction:

§ 165.T01-015 [Corrected]s

On page 21688, in the first column § 165.T01-015 (a), in the fifth line, ``40° 3018′ N 074° 1500 W'' should read ``40° 30′ 18′′ N 074° 15′ 30′′ W''.

[FR Doc. C0-10153 Filed 5-3-00; 8:45 am]

BILLING CODE 1505-01-D

DEPARTMENT OF TRANSPORTATION

Coast Guard

[USCG-2000-7206]

Voluntary Guidelines on Recreational Activities To Control the Spread of Zebra Mussels and Other Aquatic Nuisance Species

Correction

In notice document 00-9248 beginning on page 19953 in the issue of Thursday, April 13, 2000, make the following corrections:

1. On page 19955, in the first column, under the heading “Guidelines ” designated paragraph (2) should read, “Submerge and wash your suit and equipment, and rinse the inside of your bc with hot water (at least 40°C or 104°F)”.

2. On page 19956, in the first column, in the table, the heading should read, “Gallons of Water”.

[FR Doc. C0-9248 Filed 5-3-00; 8:45 am]

BILLING CODE 4910-15-U